DEPARTMENT OF THE INTERIOR

Fish and Wildlife Service

[FWS-R3-ES-2021-0042; FXES11140300000-212]

Draft Environmental Assessment and Proposed Habitat Conservation Plan; Receipt of an Application for an Incidental Take Permit, California Ridge Wind Farm, Champaign and Vermilion Counties, Illinois

AGENCY: Fish and Wildlife Service, Interior.

ACTION: Notice of availability of documents; request for comment and information.

SUMMARY: We, the U.S. Fish and Wildlife Service, have received an application from California Ridge Wind Energy, LLC (applicant), for an incidental take permit (ITP) under the Endangered Species Act (ESA), for its California Ridge Wind Farm (project). If approved, the ITP would authorize the incidental take of four bat species. The applicant has prepared a habitat conservation plan, which is also available for review. We also announce the availability of a draft environmental assessment, which has been prepared in response to the permit application in accordance with the requirements of the National Environmental Policy Act. We request public comment on the application and associated documents.

DATES: We will accept comments received or postmarked on or before July 6, 2021.

ADDRESSES: Document availability: Electronic copies of the documents this notice announces, along with public comments received, will be available online in Docket No. FWS-R3-ES-2021-0042 at http://www.regulations.gov.

Comment submission: In your comment, please specify whether your comment addresses the proposed HCP, draft EA, or any combination of the aforementioned documents, or other supporting documents. You may submit written comments by one of the following methods:

• Online: http://www.regulations.gov. Search for and submit comments on Docket No. FWS-R3-ES-2021-0042.

• By hard copy: Submit comments by U.S. mail to Public Comments Processing, Attn: Docket No. FWS-R3-ES-2021-0042; U.S. Fish and Wildlife Service, 5275 Leesburg Pike, MS: PRB/3W, Falls Church, VA 22041-3803.

FOR FURTHER INFORMATION CONTACT: Kraig McPeek, Field Supervisor, Illinois-Iowa Ecological Services Field Office, U.S. Fish and Wildlife Service, 1511 47th Ave., Moline, IL 61265; telephone: 309-757-5800, extension 202; or Andrew Horton, Regional HCP Coordinator, U.S. Fish and Wildlife Service—Interior Region 3, 5600 American Blvd., West, Suite 990, Bloomington, MN 55437-1458; telephone: 612-713-5337.

Individuals who are hearing impaired or speech impaired may call the Federal Relay Service at 1-800-877-8339 for TTY assistance.

SUPPLEMENTARY INFORMATION: We, the U.S. Fish and Wildlife Service, have received an application from California Ridge Wind Energy, LLC (applicant), for an incidental take permit (ITP) under the Endangered Species Act, as amended (ESA; 16 U.S.C. 1531 et seq.), for its California Ridge Wind Farm (project). If approved, the ITP would be for a 20-year period and would authorize the incidental take of the following four species: Indiana bat (federally listed as endangered), northern long-eared bat (federally listed as threatened), little brown bat (currently under discretionary review), and tricolored bat (petitioned for listing under ESA). The applicant has prepared a habitat conservation plan that describes the actions and measures that the applicant would implement to avoid, minimize, and mitigate incidental take of the four species. We also announce the availability of a draft environmental assessment (EA), which has been prepared in response to the permit application in accordance with the requirements of the National Environmental Policy Act. We request public comment on the application and associated documents.

Background

Section 9 of the ESA and its implementing regulations prohibit the “take” of animal species listed as endangered or threatened. “Take” is defined under the ESA as to “harass, harm, pursue, hunt, shoot, wound, kill, trap, capture, or collect” listed animal species, “or to attempt to engage in any such conduct” (16 U.S.C. 1538). However, under section 10(a) of the ESA, we may issue permits to authorize incidental take of listed species. “Incidental take” is defined by the ESA as take that is incidental to, and not the purpose of, carrying out an otherwise lawful activity. Regulations governing incidental take permits for endangered and threatened species, respectively, are found in the Code of Federal Regulations at 50 CFR 17.22 and 50 CFR 17.32.

Applicant's Proposed Project

The applicant requests a 20-year ITP to take the federally endangered Indiana bat (Myotis sodalis), threatened northern long-eared bat (Myotis septentrionalis), non-listed little brown bat (Myotis lucifugus), and non-listed tricolored bat (Perimyotis subflavus) (covered species). The applicant determined that take is reasonably certain to occur incidental to operation of 134 previously constructed wind turbines that have a total generating capacity of 214.4 megawatts and covering approximately 35,270 acres of private land. The proposed conservation strategy in the applicant's proposed HCP is designed to avoid, minimize, and mitigate the impacts of the covered activity on the covered species. The biological goals and objectives are to increase the understanding of the risk to covered species populations resulting from operation of wind energy facilities; minimize mortality of the covered species as a result of wind farm operations in the permit area; and to support survival and recovery of the covered species by maintaining or increasing the reproductive capacity of the populations of the covered species. The HCP provides on-site avoidance and minimization measures, which include turbine operational adjustments. The authorized level of take from the project is up to a total of 100 Indiana bats, 280 northern long-eared bats, 780 little brown bats, and 240 tricolored bats over the 20-year project duration. To offset the impacts of the taking of covered species, the applicant proposes to restore and protect up to 563.2 acres of suitable habitat for the covered species and up to 13 artificial bat roost structures. Mitigation will occur in the same or immediately adjacent watershed as the project.

National Environmental Policy Act

The issuance of an ITP is a Federal action that triggers the need for compliance with NEPA (42 U.S.C. 4321 et seq.). We prepared a draft EA that analyzes the environmental impacts on the human environment resulting from three alternatives: A no-action alternative, the proposed action, and a more restrictive alternative consisting of feathering turbines at a wind speed that results in less impacts to bats.

Next Steps

The Service will evaluate the permit application and the comments received to determine whether the application meets the requirements of section 10(a) of the ESA. We will also conduct an intra-Service consultation pursuant to section 7 of the ESA to evaluate the effects of the proposed take. After considering the above findings, we will determine whether the permit issuance criteria of section 10(a)(l)(B) of the ESA have been met. If met, the Service will issue the requested ITP to the applicant.

Public Comments

The Service invites comments and suggestions from all interested parties during a 30-day public comment period (see DATES). In particular, information and comments regarding the following topics are requested:

1. The environmental effects that implementation of any alternative could have on the human environment;

2. Whether or not the significance of the impact on various aspects of the human environment has been adequately analyzed; and

3. Any threats to the Indiana bat and the northern long-eared bat that may influence their populations over the life of the ITP that are not addressed in the proposed HCP; and

4. Any other information pertinent to evaluating the effects of the proposed action on the human environment.

You may submit comments by one of the methods shown under ADDRESSES. We will post on http://regulations.gov all public comments and information received electronically or via hardcopy. All comments received, including names and addresses, will become part of the administrative record associated with this action. Before including your address, phone number, email address, or other personal identifying information in your comment, you should be aware that your entire comment—including your personal identifying information—may be made publicly available at any time. While you can request in your comment that we withhold your personal identifying information from public review, we cannot guarantee that we will be able to do so. All submissions from organizations or businesses, and from individuals identifying themselves as representatives or officials of organizations or businesses, will be made available for public disclosure in their entirety.

Authority

We provide this notice under section 10(c) of the ESA (16 U.S.C. 1531 et seq.) and its implementing regulations (50 CFR 17.22) and the NEPA (42 U.S.C. 4371 et seq.) and its implementing regulations (40 CFR 1506.6; 43 CFR part 46).

Lori Nordstrom,
Assistant Regional Director, Ecological Services.

[FR Doc. 2021-11602 Filed 6-2-21; 8:45 am]

BILLING CODE 4333-15-P